DEPARTMENT OF HEALTH AND HUMAN SERVICES

[Document Identifier OS-0937-0191; 30-Day Notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project—Application packets for Real Property for Public Health Purposes—OMB No. 0937-0191—Reinstatement without change—Office of Assistant Secretary for Administration—Program Support Center/Federal Property Assistance Program.

Abstract: These applications are completed and submitted to HHS by State and local governments and nonprofit institutions when applying for acquisition of excess/surplus, underutilized/unutilized, and/or off-site Federal real property. Submitted applications are used to determine if institutions/organizations are eligible to purchase, lease or use property under the provisions of the surplus real property program.

Estimated Annualized Burden Table
Type of respondent | Number of respondents | Number of responses per respondent | Average burden hours per response | Total burden hours
State, local, or tribal governments, nonprofits | 20 | Varies | 200 | 4,000

Mary Forbes,
Office of the Secretary, Paperwork Reduction Act Reports Clearance Officer.

[FR Doc. 2011-14270 Filed 6-8-11; 8:45 am]

BILLING CODE 4151-17-P